DEPARTMENT OF ENERGY

Federal Energy Regulatory Commission

Combined Notice of Filings—2

Take notice that the Commission has received the following Natural Gas Pipeline Rate and Refund Report filings:

Filings Instituting Proceedings

Docket Numbers: RP13-1374-000.

Applicants: Tennessee Gas Pipeline Company, L.L.C.

Description: Rate Adjustment Pursuant to Offer of Settlement-Compliance Filing to be effective 9/1/2013.

Filed Date: 9/30/13.

Accession Number: 20130930-5149.

Comments Due: 5 p.m. ET 10/15/13.

Docket Numbers: RP13-1375-000.

Applicants: Eastern Shore Natural Gas Company.

Description: Non-Conforming Firm Transportation Service Agreement to be effective 9/30/2013.

Filed Date: 9/30/13.

Accession Number: 20130930-5151.

Comments Due: 5 p.m. ET 10/15/13.

Docket Numbers: RP13-1376-000.

Applicants: Millennium Pipeline Company, LLC.

Description: Negotiated Rate & Non-Conforming Agreement—SW to be effective 11/1/2013.

Filed Date: 9/30/13.

Accession Number: 20130930-5154.

Comments Due: 5 p.m. ET 10/15/13.

Docket Numbers: RP13-1377-000.

Applicants: ANR Pipeline Company.

Description: Request for Waiver of NAESB 1.3.39 to be effective 11/1/2013.

Filed Date: 9/30/13.

Accession Number: 20130930-5155.

Comments Due: 5 p.m. ET 10/15/13.

Docket Numbers: RP13-1378-000.

Applicants: Guardian Pipeline, L.L.C.

Description: Transporter's Use Gas Annual Filing 2013 to be effective 11/1/2013.

Filed Date: 9/30/13.

Accession Number: 20130930-5156.

Comments Due: 5 p.m. ET 10/15/13.

Docket Numbers: RP13-1379-000.

Applicants: Dominion Transmission, Inc.

Description: DTI—September 30, 2013 Negotiated Rate Agreements to be effective 10/1/2013.

Filed Date: 9/30/13.

Accession Number: 20130930-5169.

Comments Due: 5 p.m. ET 10/15/13.

Docket Numbers: RP13-1380-000.

Applicants: Dominion Transmission, Inc.

Description: DTI—Sabinsville to Morrisville Project Implementation to be effective 11/1/2013.

Filed Date: 9/30/13.

Accession Number: 20130930-5175.

Comments Due: 5 p.m. ET 10/15/13.

Docket Numbers: RP13-1381-000.

Applicants: Dominion Transmission, Inc.

Description: DTI—2013 Annual EPCA to be effective 11/1/2013.

Filed Date: 9/30/13.

Accession Number: 20130930-5181.

Comments Due: 5 p.m. ET 10/15/13.

Docket Numbers: RP13-1382-000.

Applicants: Equitrans, L.P.

Description: Negotiated Rate Service Agreement—Cross Timbers to be effective 10/1/2013.

Filed Date: 9/30/13.

Accession Number: 20130930-5185.

Comments Due: 5 p.m. ET 10/15/13.

Docket Numbers: RP13-1383-000.

Applicants: Northern Natural Gas Company.

Description: 20130930 Essar Non-Conforming Negotiated Rate to be effective 10/1/2013.

Filed Date: 9/30/13.

Accession Number: 20130930-5188.

Comments Due: 5 p.m. ET 10/15/13.

Docket Numbers: RP13-1384-000.

Applicants: Tennessee Gas Pipeline Company, L.L.C.

Description: NEUP—Recourse Rate to be effective 11/1/2013.

Filed Date: 9/30/13.

Accession Number: 20130930-5192.

Comments Due: 5 p.m. ET 10/15/13.

Docket Numbers: RP13-1385-000.

Applicants: Dominion Transmission, Inc.

Description: DTI—2013 Annual TCRA to be effective 11/1/2013.

Filed Date: 9/30/13.

Accession Number: 20130930-5193.

Comments Due: 5 p.m. ET 10/15/13.

Docket Numbers: RP13-1386-000.

Applicants: Viking Gas Transmission Company.

Description: Semi Annual FLRP Fall 2013 to be effective 11/1/2013.

Filed Date: 9/30/13.

Accession Number: 20130930-5196.

Comments Due: 5 p.m. ET 10/15/13.

Docket Numbers: RP13-1387-000.

Applicants: Enable Mississippi River Transmission, L.

Description: Rate Case Compliance to be effective 11/1/2013.

Filed Date: 9/30/13.

Accession Number: 20130930-5202.

Comments Due: 5 p.m. ET 10/15/13.

Docket Numbers: RP13-1388-000.

Applicants: Viking Gas Transmission Company.

Description: Update Non-Conforming Agreements to be effective 11/1/2013.

Filed Date: 9/30/13.

Accession Number: 20130930-5203.

Comments Due: 5 p.m. ET 10/15/13.

Docket Numbers: RP13-1389-000.

Applicants: Colorado Interstate Gas Company, L.L.C.

Description: Colorado Interstate Gas Company, L.L.C. submits tariff filing per 154.204: High Plains 2013 Expansion Non-Conforming TSA to be effective 11/1/2013.

Filed Date: 9/30/13.

Accession Number: 20130930-5222.

Comments Due: 5 p.m. ET 10/15/13.

Docket Numbers: RP13-1390-000.

Applicants: Wyoming Interstate Company, L.L.C.

Description: Wyoming Interstate Company, L.L.C. submits tariff filing per 154.204: Non-Conforming Agreement Filing to be effective 11/1/2013.

Filed Date: 9/30/13.

Accession Number: 20130930-5225.

Comments Due: 5 p.m. ET 10/15/13.

Docket Numbers: RP13-1391-000.

Applicants: Northern Natural Gas Company.

Description: 20130930 Negotiated Rate to be effective 10/1/2013.

Filed Date: 9/30/13.

Accession Number: 20130930-5239.

Comments Due: 5 p.m. ET 10/15/13.

Docket Numbers: RP13-1392-000.

Applicants: Tennessee Gas Pipeline Company, L.L.C.

Description: Volume No. 2—NEUP Project to be effective 11/1/2013.

Filed Date: 9/30/13.

Accession Number: 20130930-5256.

Comments Due: 5 p.m. ET 10/15/13.

Docket Numbers: RP14-1-000.

Applicants: Chandeleur Pipe Line Company.

Description: Chandeleur Sections 8 and 9 GT and C and Forms to be effective 11/1/2013.

Filed Date: 10/1/13.

Accession Number: 20131001-5001.

Comments Due: 5 p.m. ET 10/15/13.

Docket Numbers: RP14-2-000.

Applicants: Natural Gas Pipeline Company of America.

Description: Expired/Expiring Agreements to be effective 11/1/2013.

Filed Date: 10/1/13.

Accession Number: 20131001-5003.

Comments Due: 5 p.m. ET 10/15/13.

Docket Numbers: RP14-3-000.

Applicants: Alliance Pipeline L.P.

Description: Calpine Auction September 2013 to be effective 11/1/2013.

Filed Date: 10/1/13.

Accession Number: 20131001-5005.

Comments Due: 5 p.m. ET 10/15/13.

Docket Numbers: RP14-4-000.

Applicants: Columbia Gulf Transmission, LLC.

Description: TRA Out-of-Cycle to be effective 11/1/2013.

Filed Date: 10/1/13.

Accession Number: 20131001-5017.

Comments Due: 5 p.m. ET 10/15/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 1, 2013.
Nathaniel J. Davis, Sr.,
Deputy Secretary.

[FR Doc. 2013-24423 Filed 10-9-13; 8:45 am]

BILLING CODE 6717-01-P